DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (the Program), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place NW., Washington, DC 20005, (202) 357-6400. For information on HRSA's role in the Program, contact the Director, National Vaccine Injury Compensation Program, 5600 Fishers Lane, Room 11C-26, Rockville, MD 20857; (301) 443-6593, or visit our Web site at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on June 1, 2015, through June 30, 2015. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading For Further Information Contact), with a copy to HRSA addressed to Director, Division of Injury Compensation Programs, Healthcare Systems Bureau, 5600 Fishers Lane, Room 11C-26, Rockville, MD 20857. The Court's caption (Petitioner's Name v. Secretary of Health and Human Services) and the docket number assigned to the petition should be used as the caption for the written submission. Chapter 35 of title 44, United States Code, related to paperwork reduction, does not apply to information required for purposes of carrying out the Program.

Dated: July 24, 2015.
James Macrae,
Acting Administrator.

List of Petitions Filed

1. Sabrina Santacroce on behalf of J.R., Palm Bay, Florida, Court of Federal Claims No: 15-0555V

2. Samuel Crosby, New Orleans, Louisiana, Court of Federal Claims No: 15-0556V

3. John Emerson, Epsom, New Hampshire, Court of Federal Claims No: 15-0557V

4. Lorraine Swanson, Boston, Massachusetts, Court of Federal Claims No: 15-0558V

5. Maria L. Torres on behalf of Jaden Arenas, New York, New York, Court of Federal Claims No: 15-0561V

6. Lisa Hale, Dallas, Texas, Court of Federal Claims No: 15-0562V

7. Brian Felten, Kalamazoo, Michigan, Court of Federal Claims No: 15-0563V

8. Rafael Correa and Darling Brito on behalf of A.C., Dallas, Texas, Court of Federal Claims No: 15-0566V

9. Richard Young, Manassas, Virginia, Court of Federal Claims No: 15-0567V

10. Mark Greer, Hamilton, Illinois, Court of Federal Claims No: 15-0568V

11. Hilton H. Dier, Montpelier, Vermont, Court of Federal Claims No: 15-0571V

12. Warren K. Bailey, Woodsville, New Hampshire, Court of Federal Claims No: 15-0574V

13. Cameron Moore and Laura Moore on behalf of L.M., Cary, North Carolina, Court of Federal Claims No: 15-0575V

14. Susanne Murphy, Boston, Massachusetts, Court of Federal Claims No: 15-0578V

15. Christopher Fitzwater, Parkersburg, West Virginia, Court of Federal Claims No: 15-0579V

16. Darlene Dayton, Madison, Alabama, Court of Federal Claims No: 15-0589V

17. Conchita Del Mundo, M.D., Santa Ana, California, Court of Federal Claims No: 15-0590V

18. Kathy Cox, Tulsa, Oklahoma, Court of Federal Claims No: 15-0591V

19. Charles Joy, Dallas, Texas, Court of Federal Claims No: 15-0594V

20. Matthew Akers and Kristine Akers on behalf of A.A., Sterling Heights, Michigan, Court of Federal Claims No: 15-0597V

21. Anneleise Graf, Placerville, California, Court of Federal Claims No: 15-0599V

22. Elizabeth Johnson, Farmington Hills, Michigan, Court of Federal Claims No: 15-0602V

23. Merry Moore, Valencia, California, Court of Federal Claims No: 15-0605V

24. Theodore John Thies, Cedar Rapids, Iowa, Court of Federal Claims No: 15-0609V

25. Timothy Bass, Beverly Hills, California, Court of Federal Claims No: 15-0610V

26. Rebecca Stone, Southern Pines, North Carolina, Court of Federal Claims No: 15-0611V

27. Craig McDonald and Mary Beth McDonald on behalf of A.M., Vienna, Virginia, Court of Federal Claims No: 15-0612V

28. Veronica Nelson, Portland, Texas, Court of Federal Claims No: 15-0615V

29. Muhammad Iyaz on behalf of Z.I., Harrisburg, Pennsylvania, Court of Federal Claims No: 15-0622V

30. Samuel V. Darroch, Palm Beach, Florida, Court of Federal Claims No: 15-0623V

31. Anna Gilerman, Plano, Texas, Court of Federal Claims No: 15-0624V

32. Holly Swenson, Missoula, Montana, Court of Federal Claims No: 15-0625V

33. Wendy Earley on behalf of C.B., Overland Park, Kansas, Court of Federal Claims No: 15-0630V

34. Daniel Neiman and Allyson F. Neiman on behalf of N.K.N., Reno, Nevada, Court of Federal Claims No: 15-0631V

35. Nicholle M. Cielencki, Williamsville, New York, Court of Federal Claims No: 15-0632V

36. Jennifer Schaefer, Alton, Illinois, Court of Federal Claims No: 15-0635V

37. Lindsey Anthony, State College, Pennsylvania, Court of Federal Claims No: 15-0636V

38. Janice Berry, Pinson, Alabama, Court of Federal Claims No: 15-0638V

39. Fermin Padilla, Canon City, Colorado, Court of Federal Claims No: 15-0642V

40. Elizabeth Leanne Johnson and Brittney Joseph Johnson on behalf of D.B.J., New York, New York, Court of Federal Claims No: 15-0643V

41. Paula Husovsky on behalf of J.H., Linwood, New Jersey, Court of Federal Claims No: 15-0644V

42. Janette H. Herrera, Miami, Florida, Court of Federal Claims No: 15-0651V

43. Stephanie Wolfe on behalf of M.W., Bel Air, Maryland, Court of Federal Claims No: 15-0652V

44. Peggy Gordon, Seattle, Washington, Court of Federal Claims No: 15-0654V

45. Reginald Allen, Newport, Tennessee, Court of Federal Claims No: 15-0655V

46. Alan Archer, Kansas City, Missouri, Court of Federal Claims No: 15-0656V

47. Christine Marquis, Silverdale, Washington, Court of Federal Claims No: 15-0659V

48. Arthur Collins, Gillette, Wyoming, Court of Federal Claims No: 15-0661V

49. Sarah Davis, Lakeland, Florida, Court of Federal Claims No: 15-0662V

50. Tori Ricker, Hagerstown, Maryland, Court of Federal Claims No: 15-0665V

51. Michael Choi, Boston, Massachusetts, Court of Federal Claims No: 15-0668V

52. Bahman Sharifipour and Andrew Sharifipour on behalf of Beverly Sharifipour, Boston, Massachusetts, Court of Federal Claims No: 15-0669V

53. Nettie J. Foxx, Temple, Texas, Court of Federal Claims No: 15-0670V

54. John Thompson and Huali Thompson on behalf of J.C.T., Chesterfield, Missouri, Court of Federal Claims No: 15-0671V

55. Thomas Dausman, Syracuse, New York, Court of Federal Claims No: 15-0674V

56. Patricia Vance, Charleston, South Carolina, Court of Federal Claims No: 15-0675V

57. Sharon Long, Monument, Colorado, Court of Federal Claims No: 15-0676V

58. Robert Michael Gall, Warsaw, Virginia, Court of Federal Claims No: 15-0677V

59. Tamatha Anders, Austin, Texas, Court of Federal Claims No: 15-0678V

60. Lorene Scott, Philadelphia, Pennsylvania, Court of Federal Claims No: 15-0679V

61. Marlyne Tannen, Fort Lee, New Jersey, Court of Federal Claims No: 15-0680V

62. Carol Byrd, Howard Beach, New York, Court of Federal Claims No: 15-0681V

63. Mary Phy, Mount Juliet, Tennessee, Court of Federal Claims No: 15-0682V

64. Rebecca Guy, Glens Falls, New York, Court of Federal Claims No: 15-0683V

65. Robert Nolop, Overland Park, Kansas, Court of Federal Claims No: 15-0684V

[FR Doc. 2015-18603 Filed 7-28-15; 8:45 am]

BILLING CODE 4165-15-P